DEPARTMENT OF HEALTH AND HUMAN SERVICES

Administration for Children and Families

Proposed Information Collection Activity; Comment Request

Proposed Project: Performance Reporting for the Tribal Maternal, Infant, and Early Childhood Home Visiting Grant Program.

Title: Tribal Maternal, Infant, and Early Childhood Home Visiting Program Performance Reporting Form 2.

OMB No.: New Collection.

Description: Social Security Act, Title V, Section 511 (42 U.S.C. 711), as added by § 2951 of the Patient Protection and Affordable Care Act (Pub. L. 111-148), created the Maternal, Infant, and Early Childhood Home Visiting Program (MIECHV) and authorized the Secretary of HHS (in Section 511(h)(2)(A)) to award grants to Indian tribes (or a consortium of Indian tribes), tribal organizations, or urban Indian organizations to conduct an early childhood home visiting program. The legislation set aside 3 percent of the total MIECHV program appropriation (authorized in Section 511(j)) for grants to tribal entities. The implementation of the program is a collaborative endeavor between Health Resources Services Administration (HRSA) and the Administration for Children and Families (ACF). HRSA administers the State MIECHV program while ACF administers the Tribal MIECHV program. The goal of the Tribal MIECHV program is to support the development of happy, healthy, and successful American Indian and Alaska Native children and families through a coordinated home visiting system. Tribal MIECHV grants, to the greatest extent practicable, are to be consistent with the requirements of the MIECHV grants to states and jurisdictions (authorized in Section 511(c)), and include conducting a needs assessment and establishing quantifiable, measurable benchmarks.

Specifically, the MIECHV legislation requires that State and Tribal MIECHV grantees collect data to measure improvements for eligible families in six specified areas (referred to as “benchmark areas”) that encompass the major goals for the program and are listed below:

1. Improved maternal and newborn health;

2. Prevention of child injuries, child abuse, neglect, or maltreatment, and reduction in emergency department visits;

3. Improvement in school readiness and achievement;

4. Reduction in crime or domestic violence;

5. Improvement in family economic self-sufficiency;

6. Improvement in the coordination and referrals for other community resources and supports.

Tribal Home Visiting (HV) Form 2—Tribal Grantees Performance Reporting

The proposed Tribal HV Form 2 will be used by two new cohorts of Tribal MIECHV grantees that were funded in FY2016 to report their benchmark performance measures. As stipulated in the MIECHV legislation, the Tribal MIECHV grantees, like their State counterparts, must meet the required reporting of benchmark areas. Tribal MIECHV grantees are required to propose a plan for meeting the benchmark requirements specified in the legislation and must report on improvement at the end of Year 4 and Year 5 of their 5-year grants, (i.e. after 3 years of implementation and at the end of their 5-year grant).

The Tribal HV Form 2 will be used by Tribal MIECHV grantees beginning in October 2018 pending OMB approval. The Tribal HV Form 2 is new to the MIECHV Program information system and is remotely similar to the currently-approved Tribal HV Form 3 (OMB #0915-0357). The creation of Tribal HV Form 2 is due to the added level of specificity and revised performance reporting requirements for grantees to report benchmarks data.

Specifically, ACF will use the proposed Tribal HV Form 2 to:

• Track and improve the quality of benchmark measure data submitted by the Tribal grantees;

• Improve program monitoring and oversight;

• Improve rigorous data analyses that help to assess the effectiveness of the programs and enable ACF to better monitor projects; and

• Ensure adequate and timely reporting of program data to relevant federal agencies and stakeholders including the Congress, and members of the public.

Tribal HV Form 2 will provide a template for Tribal MIECHV grantees to report data on their progress under the six benchmark areas as stipulated in legislation.

Respondents: Tribal Maternal, Infant, and Early Childhood Home Visiting Program Grantees.

Annual Burden Estimates
Instrument | Number of respondents | Number of responses per respondent | Average burden hours per response | Total burden hours
Tribal Maternal, Infant, and Early Childhood Home Visiting Performance Reporting Form | 20 | 1 | 500 | 10,000

Estimated Total Annual Burden Hours: 10,000.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 330 C St. SW., Washington, DC 20201, Attn: OPRE Reports Clearance Officer. Email address: OPREinfocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary Jones,
ACF/OPRE Certifying Officer.

[FR Doc. 2017-01276 Filed 1-19-17; 8:45 am]

BILLING CODE 4184-01-P